DEPARTMENT OF THE INTERIOR

Bureau of Land Management

[LLES003420.L14300000.FR0000;MIES-057953]

Notice of Realty Action; Recreation and Public Purposes Act Classification for Conveyance, Alpena County, MI

AGENCY: Bureau of Land Management, Interior.

ACTION: Notice of realty action.

SUMMARY: The Bureau of Land Management (BLM) has examined and found suitable for classification and conveyance under the provisions of the Recreation and Public Purposes (R&PP) Act, as amended, 43.08 acres of land on Thunder Bay Island in Alpena Township, Michigan. Alpena Township proposes to acquire the lighthouse and surrounding land on Thunder Bay Island to use as a historic site.

DATES: Comments must be received by the Northeastern States Field Office at the address listed below by October 3, 2014.

ADDRESSES: Field Manager, BLM, Northeastern States Field Office, 626 East Wisconsin Avenue, Suite 200, Milwaukee, WI 53202-4617.

FOR FURTHER INFORMATION CONTACT: Carol Grundman, Realty Specialist, at the above address or at 414-297-4447. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The following described public land on Thunder Bay Island in Alpena County, Michigan, reserved under the jurisdiction of the United States Coast Guard (USCG), Department of Homeland Security, has been examined and found suitable for conveyance under Section 7 of the Taylor Grazing Act, 43 U.S.C. 315f, and the provision of the R&PP Act as amended, 43 U.S.C. 869 et seq.:

Michigan Meridian,

T. 30 N., R. 10 E.,

Sec. 3.

The area described contains 43.08 acres in Alpena County, Michigan.

Alpena Township has applied to acquire the public land and lighthouse structures on Thunder Bay Island under the R&PP Act. The Township proposes to protect and manage the lighthouse and surrounding acreage as a historic site open to the public under regulated access. The USCG concurs with the proposed disposition of the land. The conveyance is consistent with the Michigan Resource Management Plan Amendment approved June 27, 1997. The land is not needed for any Federal purpose and a conveyance to protect the historic structures and surrounding land would be in the public interest.

The conveyance document, if issued, would be subject to the provisions of the R&PP Act and applicable regulations of the Secretary of the Interior and would contain the following reservations, terms, and conditions:

1. Valid existing rights.

2. All minerals shall be reserved to the United States, together with the right to prospect for, mine and remove minerals under applicable laws and such regulations as the Secretary of the Interior may prescribe.

3. Any other terms and conditions that the authorized officer deems appropriate, including conditions to ensure public access and proper management of Federal land and interest therein.

Commencing on August 19, 2014, the public land described above will be segregated from all forms of appropriation under the public land laws, except for conveyance under the Recreation and Public Purposes Act. For a period of 45 days after issuance of this notice, interested parties may submit written comments regarding the proposed conveyance or classification of the land to the Field Manager at the address listed above. Detailed information concerning this action including but not limited to documentation related to compliance with applicable environmental and cultural resource laws is available for review at the address listed above.

Classification Comments: Interested parties may submit comments involving the suitability of the land for R&PP Act classification, and particularly, whether the land is physically suited for management as a historic site, whether the use will maximize future use or uses of the land, whether the use is consistent with local planning and zoning, or if the use is consistent with State and Federal programs.

Application Comments: Interested parties may submit comments regarding the specific use proposed in the application and the plan of development, whether the BLM followed proper administrative procedures in reaching the decision, or any other factor not directly related to the suitability of the land for management as a historic site. Any adverse comments will be evaluated by the State Director who may sustain, vacate, or modify this realty action. In the absence of any adverse comments, the classification of the land described in this notice will become effective on October 20, 2014. The land will not become available for conveyance until after the classification becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5

Dean Gettinger,
Field Manager, Northeastern States Field Office.

[FR Doc. 2014-19612 Filed 8-18-14; 8:45 am]

BILLING CODE 4310-GJ-P